DEPARTMENT OF TRANSPORTATION

Federal Aviation Administration

14 CFR Part 39

[Docket No. FAA-2024-2332; Project Identifier MCAI-2022-01479-R]

RIN 2120-AA64

Airworthiness Directives; Airbus Helicopters

AGENCY: Federal Aviation Administration (FAA), DOT.

ACTION: Notice of proposed rulemaking (NPRM).

SUMMARY: The FAA proposes to adopt a new airworthiness directive (AD) for certain Airbus Helicopters Model AS332C, AS332C1, AS332L, AS332L1, AS332L2, AS355E, AS355F, AS355F1, AS355F2, AS355N, AS355NP, AS-365N2, AS 365 N3, EC 155B, EC155B1, EC225LP, SA-365N, and SA-365N1 helicopters. This proposed AD was prompted by a report of an unintentional activation of the hoist shear-button (shear-button) on the collective pitch handle during a night flight. This proposed AD would require checking the operation of the shear-button safety-cap on each applicable collective pitch handle and prohibit installing certain part-numbered collective pitch handles or collective sticks with those part-numbered collective pitch handles installed unless certain requirements are met. The FAA is proposing this AD to address the unsafe condition on these products.

DATES: The FAA must receive comments on this NPRM by December 2, 2024.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-2332; or in person at Docket Operations between 9 a.m. and 5 p.m., Monday through Friday, except Federal holidays. The AD docket contains this NPRM, any comments received, and other information. The street address for Docket Operations is listed above.

Related Material: For Airbus Helicopters material identified in this AD, contact Airbus Helicopters, 2701 North Forum Drive, Grand Prairie, TX 75052; phone: (972) 641-0000 or (800) 232-0323; fax: (972) 641-3775; or at airbus.com/en/products-services/helicopters/hcare-services/airbusworld.

FOR FURTHER INFORMATION CONTACT: Dan McCully, Aviation Safety Engineer, FAA, 1600 Stewart Avenue, Suite 410, Westbury, NY 11590; phone: (404) 474-5548; email: william.mccully@faa.gov.

SUPPLEMENTARY INFORMATION:

Comments Invited

The FAA invites you to send any written relevant data, views, or arguments about this proposal. Send your comments to an address listed under ADDRESSES. Include “Docket No. FAA-2024-2332; Project Identifier MCAI-2022-01479-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Dan McCully, Aviation Safety Engineer, FAA, 1600 Stewart Avenue, Suite 410, Westbury, NY 11590; phone: (404) 474-5548; email: william.mccully@faa.gov. Any commentary that the FAA receives which is not specifically designated as CBI will be placed in the public docket for this rulemaking.

Background

The European Union Aviation Safety Agency (EASA), which is the Technical Agent for the Member States of the European Union, has issued EASA AD 2022-0220, dated November 16, 2022 (EASA AD 2022-0020), to correct an unsafe condition on Airbus Helicopters Model AS 355 E, AS 355 F, AS 3555 F1, AS 355 F2, AS 355 N, AS 355 NP, SA 365 N, SA 365 N1, AS 365 N2, AS 365 N3, EC 155 B, EC 155 B1, AS 332 C, AS 332 C1, AS 332 L, AS 332 L1, AS 332 L2, and EC 225 LP helicopters, all serial numbers equipped with hoist provisions (hoist fixed parts).

EASA AD 2022-0020 advises of a report of an inadvertent activation of the shear-button on a collective pitch handle. EASA AD 2022-0020 states this occurred during a night flight when the pilot was turning on the headlight adjacent to the shear-button, which is protected by a safety-cap that is fitted with a spring. Additionally, EASA AD 2022-0220 states that further investigation determined aging of the spring may have led to improper functioning of the safety-cap.

Accordingly, EASA AD 2022-0220 requires accomplishing an operational check of the shear-button safety-cap of each applicable collective pitch handle and, depending on the results, replacing the spring or deferring replacement of the spring by fabricating and installing a placard prohibiting use of the hoist during night flights, informing all flight crew, and operating the helicopter accordingly. EASA AD 2022-0220 also prohibits installing certain part-numbered collective pitch handles or certain part-numbered collective sticks with those part-numbered collective pitch handles installed unless the operational check and as applicable, corrective action is done, or it is a new collective pitch handle.

You may examine EASA AD 2022-0220 in the AD docket at regulations.gov under Docket No. FAA-2024-2332.

Related Material

The FAA reviewed Airbus Helicopters Alert Service Bulletin (ASB) AS332-25.03.97, Revision 0, dated October 4, 2022; Airbus Helicopters ASB AS355-25.01.38, Revision 0, dated October 4, 2022; Airbus Helicopters ASB AS365-25.01.91, Revision 1, dated November 3, 2022; Airbus Helicopters ASB EC155-25A160, Revision 0, dated October 4, 2022; and Airbus Helicopters ASB EC225-25A293, Revision 0, dated October 4, 2022. This material specifies procedures for inspecting the spring of the shear-button safety-cap on the collective pitch handle to determine whether the safety-cap maintains either in a fully closed or fully open position. Depending on the results, this material specifies procedures for replacing an affected spring or attaching a label (placard) to prohibit night flights.

FAA's Determination

These products have been approved by the aviation authority of another country and are approved for operation in the United States. Pursuant to the FAA's bilateral agreement with this State of Design Authority, it has notified the FAA of the unsafe condition described in its AD. The FAA is issuing this NPRM after determining that the unsafe condition described previously is likely to exist or develop on other products of these same type designs.

Proposed AD Requirements in This NPRM

This proposed AD would require checking the spring of the collective pitch handle for correct positioning of the shear-button safety-cap and, depending on the results, replacing the spring or deferring replacement of the spring and installing a placard and prohibiting night flying during the deferment. The owner/operator (pilot) holding at least a private pilot certificate may perform the check and must enter compliance with the applicable paragraphs of the proposed AD into the helicopter maintenance records in accordance with 14 CFR 43.9(a) and 91.417(a)(2)(v). The pilot may perform this check because it only involves lifting the safety-cap and verifying whether it automatically returns to an intended position. This check could be performed equally well by a pilot or a mechanic. This is an exception to the FAA's standard maintenance regulations.

This proposed AD would also prohibit installing certain part-numbered collective pitch handles or collective sticks with those part-numbered collective pitch handles installed unless the operational check and, as applicable, corrective action, is done, or it is a new collective pitch handle.

Differences Between This Proposed AD and EASA AD 2022-0220

EASA AD 2022-0220 specifies a one-time inspection of the spring, whereas this proposed AD would require repetitively inspecting the spring at intervals not to exceed 12 months time-in-service.

EASA AD 2022-0220 allows deferring replacement of a deficient spring provided that a placard prohibiting use of the hoist at night is installed, all flight crew are informed and, thereafter, that the helicopter is operated accordingly, whereas this proposed AD would not require informing any flight crew. Compliance with such requirements in an AD is impracticable to demonstrate or track on an ongoing basis; therefore, an AD requirement to inform all flight crew is unenforceable.

Costs of Compliance

The FAA estimates that this AD, if adopted as proposed, would affect 66 helicopters of U.S. Registry. Labor rates are estimated at $85 per work-hour. Based on these numbers, the FAA estimates the following costs to comply with this proposed AD.

Checking each safety-cap would take 1 work-hour for an estimated cost of up to $85 per helicopter and $5,610 for the U.S. fleet, per check cycle.

If required, replacing a spring would take 1 work-hour and parts would cost $25 for an estimated cost of $110 per replacement.

Fabricating and installing a placard would take 0.5 work-hour and parts would cost $25 for an estimated cost of $68 per helicopter.

Authority for This Rulemaking

Title 49 of the United States Code specifies the FAA's authority to issue rules on aviation safety. Subtitle I, Section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus Helicopters: Docket No. FAA-2024-2332; Project Identifier MCAI-2022-01479-R.

(a) Comments Due Date

The FAA must receive comments on this airworthiness directive (AD) by December 2, 2024.

(b) Affected ADs

None.

(c) Applicability

This AD applies to Airbus Helicopters AS332C, AS332C1, AS332L, AS332L1, AS332L2, AS355E, AS355F, AS355F1, AS355F2, AS355N, AS355NP, AS-365N2, AS 365 N3, EC 155B, EC155B1, EC225LP, SA-365N, and SA-365N1 helicopters, certificated in any category, with a collective pitch handle installed on a pilot or co-pilot collective stick having part number (P/N) 704A41-1100-42, 704A41-1100-50, 704A41-1100-56, 704A41-1100-57, 704A41-1100-60, 704A41-1100-67, 704A41-1100-68, 704A41-1100-97, 704A41-1100-98, 704A41-1100-99, 704A41-1101-14, 704A41-1101-30, or 704A41-1101-32, as applicable to your model helicopter.

(d) Subject

Joint Aircraft System Component (JASC) Code: 2510, Flight compartment equipment.

(e) Unsafe Condition

This AD was prompted by a report of an unintentional activation of the hoist shear-button on the collective pitch handle during a night flight. The FAA is issuing this AD to detect and address fatigue of the spring in the hoist shear-button safety-cap on the left and right collective pitch handles. The unsafe condition, if not addressed, could result in an unintended shearing of the hoist cable and subsequent injury to the hoisted person.

(f) Compliance

Comply with this AD within the compliance times specified, unless already done.

(g) Required Actions

(1) For helicopters identified in paragraph (c) of this AD that have a hoist installed, within 50 hours time-in-service (TIS) after the effective date of this AD, and thereafter at intervals not to exceed 12 months TIS, check the operation of the hoist shear-button safety-cap on each applicable collective pitch handle by accomplishing the actions required by paragraphs (g)(1)(i) through (iii) of this AD, as applicable. The owner/operator (pilot) holding at least a private pilot certificate may perform the checks required by paragraphs (g)(1)(i) through (iii) of this AD and must enter compliance with these paragraphs into the helicopter maintenance records in accordance with 14 CFR 43.9(a) and 91.417(a)(2)(v). The record must be maintained as required by 14 CFR 91.417, 121.380, or 135.439.

(i) Place your thumb under the safety-cap and lift the safety-cap to a less-than halfway position. Remove your thumb and verify that the safety-cap goes to the fully open position or that the safety-cap returns to the fully closed position. Repeat these actions no less than two more times. If the safety-cap stays in the less-than halfway position, or the safety-cap does not fully close or fully open during any instance of the actions required by this paragraph, before further flight, a person authorized under 14 CFR 43.3 must accomplish the actions required by paragraph (g)(2) of this AD.

(ii) Place your thumb under the safety-cap and lift the safety-cap to a halfway position. Remove your thumb and verify that the safety-cap goes to the fully open position or that the safety-cap returns to the fully closed position. Repeat these actions no less than two more times. If the safety-cap stays in the halfway position, or the safety-cap does not fully close or fully open during any instance of the actions required by this paragraph, before further flight, a person authorized under 14 CFR 43.3 must accomplish the actions required by paragraph (g)(2) of this AD.

(iii) Place your thumb under the safety-cap and lift the safety-cap to a more-than halfway position. Remove your thumb and verify the safety-cap goes to the fully open position or that the safety-cap returns to the fully closed position. Repeat these actions no less than two more times. If the safety-cap stays in the more-than halfway position, or the safety-cap does not fully close or fully open during any instance of the actions required by this paragraph, before further flight, a person authorized under 14 CFR 43.3 must accomplish the actions required by paragraph (g)(2) of this AD.

(2) If the safety-cap stays in the less-than halfway, halfway, or more-than halfway position, or the safety-cap does not fully close or fully open during any of instance of the actions required by paragraphs (g)(1)(i) through (iii) of this AD, before further flight, remove the spring from service and replace it with an airworthy spring.

(3) As an alternative to replacing the spring as required by paragraph (g)(2) of this AD, accomplish the actions required by paragraphs (g)(3)(i) and (ii) of this AD.

(i) Before further flight, fabricate a placard with a font size greater than or equal to 4 mm (.157 in), stating the following: “NIGHT HOIST OPERATIONS PROHIBITED”. The placard must have a red background with white font color or a white background with red font color. The placard must not be erasable and must be attached to the instrument panel, visible to the pilot and co-pilot.

(ii) Within 150 hours TIS after accomplishing the actions required by paragraph (g)(3)(i) of this AD, remove the spring of the safety-cap from service and replace it with an airworthy spring, and remove the placard from service.

(4) For helicopters identified in paragraph (c) of this AD that do not have a hoist installed, before installation of a hoist's removable parts on the helicopter, accomplish the check and as applicable, corrective action, required by paragraphs (g)(1) through (3) of this AD.

(h) Parts Installation Limitations

As of the effective date of this AD, do not install on any helicopter a collective pitch handle having a P/N identified in paragraph (c) of this AD, or any pilot or co-pilot collective stick with a collective pitch handle having a P/N identified in paragraph (c) of this AD installed, unless the check and as applicable, corrective action, required by paragraphs (g)(1) and (2) of this AD have been done or the collective pitch handle is new (zero total hours TIS).

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j) of this AD. Information may be emailed to: AMOC@faa.gov.

(2) Before using any approved AMOC, notify your appropriate principal inspector, or lacking a principal inspector, the manager of the local flight standards district office/certificate holding district office.

(j) Related Information

For more information about this AD, contact Dan McCully, Aviation Safety Engineer, FAA, 1600 Stewart Avenue, Suite 410, Westbury, NY 11590; phone: (404) 474-5548; email: william.mccully@faa.gov.

(k) Material Incorporated by Reference

None.

Issued on October 9, 2024.
Steven W. Thompson,
Acting Deputy Director, Compliance & Airworthiness Division, Aircraft Certification Service.

[FR Doc. 2024-23796 Filed 10-15-24; 8:45 am]

BILLING CODE 4910-13-P